DEPARTMENT OF JUSTICE

Notice of Lodging of Consent Decree Pursuant to the Comprehensive Environmental Response, Compensation and Liability Act

Notice is hereby given that on October 26, 2007, a proposed Settlement Agreement Regarding the Tri-State Mining District Sites was filed with the United States Bankruptcy Court for the Southern District of Texas in In re ASARCO LLC, et al., Case No. 05-21207 ( Bankr. S.D. Tex.). The Tri-State Mining District Sites consist of the Tar Creek Superfund Site, in Ottawa County, Oklahoma, the Cherokee County Superfund Site in Cherokee County, Kansas, the Oronogo-Duenweg Lead Mining Belt (Jasper County) Superfund Site in Jasper County, Missouri, and the Newton County Mine Tailings Superfund Site in Newton County, Missouri. The proposed Settlement Agreement entered into among the United States on behalf of the Environmental Protection Agency and the Department of Interior, and the States of Kansas, Missouri and Oklahoma, and ASARCO LLC (“Asarco”) provides that the United States shall have total allowed general unsecured claims of $144,000,000 for past and future response costs and natural resource damages for the Tri-State Mining District sites, and that the States of Kansas, Missouri and Oklahoma shall have allowed general unsecured claims of $3,250,000, $3,250,000, and $7,500,000 respectively. The proposed Settlement Agreement resolves the United States' past and future response cost and natural resource damage claims at the Tri-State Mining District Sites.

The Department of Justice will accept comments relating to the proposed Settlement Agreement for a period of thirty (30) days from the date of publication of this notice. Comments should be addressed to the Assistant Attorney General, Environment and Natural Resources Division, and mailed either electronically to pubcomment-ees.enrd@usdoj.gov or in hard copy to P.O. Box 7611, U.S. Department of Justice, Washington, DC 20044-7611. Comments should refer to In re Asarco LLC, Case No. 05-21207 (Bankr. S.D. Tex.), and DJ Ref. No. 90-11-3-08633.

The proposed Settlement Agreement may be examined at: (1) The Office of the United States Attorney for the Southern District of Texas, 800 North Shoreline Blvd, #500, Corpus Christi, TX 78476-2001; (2) the Region 6 Office of the United States Environmental Protection Agency, 1445 Ross Avenue, Suite 1200, Dallas, Texas 75202; and (3) the Region 7 Office of the United States Environmental Protection Agency, 901 North Fifth Street, Kansas City, KS 66101. During the comment period, the proposed Settlement Agreement may also be examined on the following Department of Justice Web site: http://www.usdoj.gov/enrd/Consent_Decree.html. A copy of the proposed Settlement Agreement may also be obtained by mail from the Department of Justice Consent Decree Library, P.O. Box 7611, Washington, DC 20044-7611 or by faxing or e-mailing a request to Tonia Fleetwood (tonia.fleetwood@usdoj.gov, fax no. (202) 514-0097, phone confirmation number (202) 514-1547. In requesting a copy from the Consent Decree Library, please refer to the referenced case and D.J. Reference No. 90-11-3-08633, and enclose a check in the amount of $4.25 for the Settlement Agreement (21 pages at 25 cents per page reproduction costs), made payable to the U.S. Treasury.

Robert E. Maher, Jr.,
Assistant Chief, Environmental Enforcement Section, Environment and Natural Resources Division.

[FR Doc. 07-5581 Filed 11-7-07; 8:45 am]

BILLING CODE 4410-15-M